COMMITTEE FOR PURCHASE FROM PEOPLE WHO ARE BLIND OR SEVERELY DISABLED

Procurement List Addition and Deletions

AGENCY: Committee for Purchase from People Who Are Blind or Severely Disabled.

ACTION: Additions to and Deletions from Procurement List.

SUMMARY: This action adds to the Procurement List a service to be furnished by a nonprofit agency employing persons who are blind or have other severe disabilities, and deletes from the Procurement List a product and a service previously furnished by such agencies.

EFFECTIVE DATE: April 13, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: Addition: On January 10, 2003, the Committee for Purchase From People Who Are Blind or Severely Disabled published notice (68 FR 1434) of proposed additions to the Procurement List. After consideration of the material presented to it concerning capability of qualified nonprofit agencies to provide the service and impact of the addition on the current or most recent contractor, the Committee has determined that the service listed below is suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

Accordingly, the following service is added to the Procurement List:

Service: Service Type/Location: Janitorial/Custodial, U.S. Coast Guard Cutter Aspen, Yerba Buena Island, San Francisco, California.

NPA: Toolworks, Inc., San Francisco, California.

Contract Activity: U.S. Coast Guard Integrated Support Command, Alameda, California.

Deletions:

I certify that the following action will not have a significant impact on a substantial number of small entities. The major factors considered for this certification were:

1. The action may not result in any additional reporting, recordkeeping or other compliance requirements for small entities.

2. The action may result in authorizing small entities to furnish the product and service to the Government.

3. There are no known regulatory alternatives which would accomplish the objectives of the Javits-Wagner-O'Day Act (41 U.S.C. 46-48c) in connection with the product and service deleted from the Procurement List.

After consideration of the relevant matter presented, the committee has determined that the product and service listed below are no longer suitable for procurement by the Federal Government under 41 U.S.C. 46-48c and 41 CFR 51-2.4.

Accordingly, the following product and service are deleted from the Procurement List:

Product: Product/NSN: Brush, Tooth Brush Style, 7920-00-900-3577.

NPA: None currently authorized.

Contract Activity: GSA, Southwest Supply Center, Fort Worth, Texas.

Service: Service Type/Location: Janitorial/Custodial, U.S. Courthouse and Customhouse, Toledo, Ohio.

NPA: ContracTech, Inc., Toledo, Ohio.

Contract Activity: GSA, Public Buildings Service, Great Lakes Region.

Sheryl D. Kennerly,
Director, Information Management.

[FR Doc. 03-6168 Filed 3-13-03; 8:45 am]

BILLING CODE 6353-01-P